SMALL BUSINESS ADMINISTRATION

[Disaster Declaration #10923 and #10924]

Kansas Disaster Number KS-00022

AGENCY: U.S. Small Business Administration.

ACTION: Amendment 1.

SUMMARY: This is an amendment of the Presidential declaration of a major disaster for the State of Kansas (FEMA-1711-DR), dated 07/05/2007.

Incident: Severe storms and flooding.

Incident Period: 06/26/2007 and continuing.

Effective Date: 07/13/2007.

Physical Loan Application Deadline Date: 09/04/2007.

EIDL Loan Application Deadline Date: 04/07/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Kansas, dated 07/05/2007 is hereby amended to include the following areas as adversely affected by the disaster:

Primary Counties: Allen, Cowley, Labette, Linn.

Contiguous Counties:

Kansas: Cherokee, Coffey, Sedgwick, Sumner.

Missouri: Vernon.

Oklahoma: Craig, Kay, Osage.

All other information in the original declaration remains unchanged.

(Catalog of Federal Domestic Assistance Numbers 59002 and 59008)

Herbert L. Mitchell,
Associate Administrator for Disaster Assistance.

[FR Doc. E7-14121 Filed 7-20-07; 8:45 am]

BILLING CODE 8025-01-P